DEPARTMENT OF ENERGY

Federal Energy Regulatory Commission

[Docket No. IC08-550-000, FERC-550]

Commission Information Collection Activities, Proposed Collection; Comment Request; Extension

November 6, 2007.

AGENCY: Federal Energy Regulatory Commission, DOE.

ACTION: Notice of Proposed Information Collection and Request for Comments.

SUMMARY: In compliance with the requirements of Section 3506(c)(2)(a) of the Paperwork Reduction Act of 1995 (Pub. L. 104-13), the Federal Energy Regulatory Commission (Commission) is soliciting public comment on the specific aspects of the information collection described below.

DATES: Comments on the collection of information are due by January 11, 2008.

ADDRESSES: Copies of sample filings of the proposed information collection can be obtained from the Commission's Web site (http://www.ferc.gov/docs-filings/elibrary.asp) or from the Federal Energy Regulatory Commission, Attn: Michael Miller, Office of the Executive Director, ED-34, 888 First Street, NE., Washington, DC 20426. Comments may be filed electronically or in paper format. Those parties filing electronically do not need to make a paper filing. For paper filings, the original and 14 copies of such comment should be submitted to the Secretary of the Commission, Federal Energy Regulatory Commission, 888 First Street, NE., Washington, DC 20426 and refer to Docket No. IC08-550-000.

Documents filed electronically via the Internet must be prepared in, MS Word, Portable Document Format, Word Perfect or ASCII format. To file the document, access the Commission's Web site at www.ferc.gov and click on “Make an E-filing,” and then follow the instructions for each screen. First time users will have to establish a user name and password. The Commission will send an automatic acknowledgment to the sender's e-mail address upon receipt of comments.

All comments may be viewed, printed or downloaded remotely via the Internet through FERC's homepage using the eLibrary link. For user assistance, contact FERConlinesupport@ferc.gov or toll free at (866) 208-3676 or for TTY, contact (202) 502-8659.

FOR FURTHER INFORMATION CONTACT: Michael Miller may be reached by telephone at (202) 502-8415, by fax at (202) 273-0873, and by e-mail at michael.miller@ferc.gov.

SUPPLEMENTARY INFORMATION: The information collected under the requirements of FERC-550 “Oil Pipeline Rates: Tariff Filings” (OMB No. 1902-0089) is used by the Commission to implement the statutory provisions of Part 1, 6 and 15 of the Interstate Commerce Act (ICA) (Pub. L. 337, 34 Stat. 584). Jurisdiction over oil pipelines as it relates to the establishment of valuations for pipelines was transferred from the Interstate Commerce Commission (ICC) to FERC, pursuant to sections 306 and 402 of the Department of Energy Organization Act (DOE Act), 42 U.S.C. 7155 and 7172 and Executive Order No. 12009, 42 FR 46267 (September 17, 1977).

The filing requirements for proposed oil pipeline rates are specified in 18 CFR 341-348. The data that oil pipelines file is the basis for Commission analyses of the amounts they plan to charge to transport crude oil and petroleum products. The Commission uses its analyses to (1) determine if the proposed charges result in just and reasonable rates for the oil pipeline's transportation services and (2) help the Commission decide whether it should suspend, accept or reject the proposed rates.

Action: The Commission is now requesting a three-year extension of the current expiration date, with no changes to the existing collection. The information filed with the Commission is mandatory.

Burden Statement: Public Reporting Burden for this information collection is estimated as:

Number of respondents annually | Number of responses per respondent | Average burden hours per response | Total annual burden hours
(1) | (2) | (3) | (4)
200 | 3 | 11 | 6,600

6,600 hours/2080 hours¹ × $124,384² equals $401,026. The cost of filing FERC-550 per respondent is $2005.

¹ Number of hours an employee works in a year.

² Average annual salary per employee.

The reporting burden includes the total time, effort, or financial resources expended to generate, maintain, retain, disclose or provide the information including:

(1) Reviewing instructions; (2) developing, acquiring, installing, and using technology and systems for the purposes of collecting, validating, verifying, processing, maintaining, disclosing and providing information; (3) adjusting existing ways to comply with an previously applicable filing instructions and requirements; (4) training personnel to respond to a collection of information; (5) searching data sources; (6) competing and reviewing the collection of information; and (7) transmitting or otherwise disclosing the information.

The cost estimate for respondents is based upon salaries for professional and clerical support, as well as direct and indirect overhead costs. Direct costs include all costs directly attributable to providing this information, such as administrative costs and the cost for information technology. Indirect or overhead costs are costs incurred by an organization in support of its mission. These costs apply to activities which benefit the whole organization rather than any one particular function or activity.

Comments are invited on: (1) The accuracy of the Commission's burden estimate of the proposed information collection, including the validity of the methodology and assumptions used to calculate the reporting burden; (2) ways to enhance the quality, utility and clarity of the information to be collected.

Kimberly D. Bose,
Secretary.

[FR Doc. E7-22284 Filed 11-14-07; 8:45 am]

BILLING CODE 6717-01-P